FEDERAL COMMUNICATIONS COMMISSION

47 CFR Part 73

[DA 06-111; MB Docket No. 05-36, RM-11030; MB Docket No. 05-37, RM-10790]

Radio Broadcasting Services; Lovelady and Lufkin, TX and Oil City, LA

AGENCY: Federal Communications Commission.

ACTION: Final rule.

SUMMARY: The Audio Division grant two allotments in Lovelady, Texas and Oil City, Louisiana that require the reclassification of FM Station KYKS, Channel 286C, Lufkin, Texas to specify operation on Channel 286C0. See 70 FR 8335, February 18, 2005. The Audio Division, at the request of Charles Crawford, allots Channel 288A at Lovelady, Texas, as the community's second local service. Channel 288A can be allotted to Lovelady in compliance with the Commission's minimum distance separation requirements with a site restriction of 12.5 kilometers (7.8 miles) southwest to avoid a short-spacing to the license site of FM Station KTCJ, Channel 290C3, Centerville, Texas. The reference coordinates for Channel 288A at Lovelady, Texas are 31-03-14 North Latitude and 95-32-34 West Longitude. The Audio Division, at the request of Charles Crawford, allots Channel 285A at Oil City, Louisiana, as the community's second local service. Channel 285A can be allotted to Oil City in compliance with the Commission's minimum distance separation requirements with a site restriction of 15.6 kilometers (9.7 miles) west to avoid a short-spacing to the license site of FM Station KORI, Channel 284C3, Mansfield, Louisiana. The reference coordinates for Channel 285A at Oil City are 32-44-11 North Latitude and 94-08-10 West Longitude.

DATES: Effective March 6, 2006. The window period for filing applications for these allotments will not be opened at this time. Instead, the issue of opening these allotments for auction will be addressed by the Commission in a subsequent order.

ADDRESSES: Federal Communications Commission, 445 Twelfth Street, SW., Washington, DC 20554.

FOR FURTHER INFORMATION CONTACT: Rolanda F. Smith, Media Bureau, (202) 418-2180.

SUPPLEMENTARY INFORMATION: This is a synopsis of the Commission's Report and Order, MB Docket Nos. 05-36, 05-37, adopted January 18, 2006 and released January 20, 2006. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20054, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

Part 73 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Louisiana, is amended by adding Channel 285A at Oil City.

3. Section 73.202(b), the Table of FM Allotments under Texas, is amended by adding Channel 288A at Lovelady; and removing Channel 286C and adding Channel 286C0 at Lufkin.

Federal Communications Commission.
John A. Karousos,
Assistant Chief, Audio Division, Media Bureau.

[FR Doc. 06-1063 Filed 2-7-06; 8:45 am]

BILLING CODE 6712-01-P